DEPARTMENT OF TRANSPORTATION

National Highway Traffic Safety Administration

[Docket No. NHTSA-2022-0045]

Agency Information Collection Activities; Submission to the Office of Management and Budget for Review and Approval; Request for Comment; Influence of Drivers' Internal Reasoning on Speeding

AGENCY: National Highway Traffic Safety Administration (NHTSA), Department of Transportation (DOT).

ACTION: Notice and request for comments on a proposed collection of information.

SUMMARY: In compliance with the Paperwork Reduction Act of 1995 (PRA), this notice announces that the Information Collection Request (ICR) summarized below will be submitted to the Office of Management and Budget (OMB) for review and approval. The ICR describes the nature of the information collection and its expected burden. This ICR is for a new collection of information for which NHTSA intends to seek OMB approval for a one-time voluntary survey of licensed drivers regarding speeding. A Federal Register Notice with a 60-day comment period soliciting comments on the following information collection was published on October 25, 2022. NHTSA received comments from one organization and two individuals, which we address below.

DATES: Comments must be submitted on or before March 30, 2023.

ADDRESSES: Written comments and recommendations for the proposed information collection, including suggestions for reducing burden, should be submitted to the Office of Management and Budget at www.reginfo.gov/public/do/PRAMain. To find this particular information collection, select “Currently under Review—Open for Public Comment” or use the search function.

FOR FURTHER INFORMATION CONTACT: For additional information or access to background documents, contact Stacy Jeleniewski, Ph.D., Office of Behavioral Safety Research (NPD-310), (202) 366-2752 (office), (202) 981-3173 (cell), Stacy.Jeleniewski@dot.gov, National Highway Traffic Safety Administration, W46-491, 1200 New Jersey Avenue SE, Washington, DC 20590.

SUPPLEMENTARY INFORMATION: Under the PRA (44 U.S.C. 3501 et seq.), a Federal agency must receive approval from the Office of Management and Budget (OMB) before it collects certain information from the public, and a person is not required to respond to a collection of information by a Federal agency unless the collection displays a valid OMB control number. In compliance with these requirements, this notice announces that the following information collection request will be submitted to OMB.

Title: Influence of Drivers' Internal Reasoning on Speeding.

OMB Control Number: New.

Form Number: NHTSA Form 1659.

Type of Request: Approval of a New Information Collection.

Type of Review Requested: Regular.

Length of Approval Requested: Three years from date of approval.

Summary of the Collection of Information: NHTSA is seeking approval to conduct a survey of 1,500 licensed drivers in Washington State age 18 and older regarding speeding. The study will coordinate with the Washington Traffic Safety Commission and Washington Department of Licensing to survey drivers in the State who received one or more speeding convictions in the last three years and drivers not convicted of speeding in that same time-frame. Participation in the study will be voluntary. The study will use a self-administered web-based survey with a paper survey option available. The survey will include general and speeding-specific questions about moral reasoning (judgments about rightfulness and wrongfulness), legal reasoning (judgments about lawfulness and unlawfulness), and attitudes and perceptions of laws, enforcement, and sanctions. Past speeding behavior and intent to speed in the future will also be assessed.

In conducting the proposed research, the survey will use computer-assisted web interviewing (i.e., a programmed, self-administered, web survey) to facilitate ease of use and maximize data accuracy. Although web will be the primary data collection mode, a paper questionnaire will be sent to households that do not respond to the web invitations. The proposed survey will be anonymous, and the survey will not collect any personal identifying information. This collection only requires respondents to report their answers; there are no record-keeping costs to the respondents. Individuals receiving a survey invitation will receive compensation in return for their activities.

The results of this research will assist NHTSA in better understanding how to develop successful programs to improve driver safety. The technical report will be distributed to a variety of audiences interested in improving highway safety. This collection will inform the development of countermeasures, particularly in the areas of communications and outreach intended to reduce speeding.

Description of the Need for the Information and Proposed Use of the Information: NHTSA was established to reduce the number of deaths, injuries, and economic losses resulting from motor vehicle crashes on the Nation's highways. As part of this statutory mandate, NHTSA is authorized to conduct research as a foundation for the development of traffic safety programs. Title 23, United States Code, Section 403 gives the Secretary of Transportation (NHTSA by delegation) authorization to use funds appropriated to conduct research and development activities, including demonstration projects and the collection and analysis of highway and motor vehicle safety data and related information, with respect to all aspects of highway and traffic safety systems and conditions relating to vehicle, highway, driver, passenger, motorcyclist, bicyclist, and pedestrian characteristics; crash causation and investigations; and human behavioral factors and their effect on highway and traffic safety. Speeding behavior is an area for which NHTSA has developed comprehensive programs to meet its injury reduction goals. The major components of speeding safety programs are education, enforcement, and outreach, with legislative efforts added to the mix.

Speeding continues to be a major safety problem. In 2019, speeding was a contributing factor in 26% of fatal, 12% of injury, and 9% of property-damage-only crashes. Motor vehicle crashes in 2019 where at least one driver was speeding accounted for 9,478 fatalities. That same year, 326,000 people were injured in speeding-related traffic crashes.¹ To address this safety problem, NHTSA has provided State Highway Safety Offices and safety advocates with information on attitudes and behaviors of drivers who speed, including changes across time, and classified speeder types.2 3 NHTSA is continuing these efforts and attempting to assist the development of more tailored countermeasures by conducting this new study to evaluate additional psychological factors that may predict speeding behavior.

¹ National Center for Statistics and Analysis. (2021, October). Speeding: 2019 data (Traffic Safety Facts. Report No. DOT HS 813 194). National Highway Traffic Safety Administration.

² Richard, C.M., Campbell, J.L., Lichty, M.G., Brown, J.L., Chrysler, S., Lee, J.D., Boyle, L., & Reagle, G. (2012, August). Motivations for speeding, Volume I: Summary report. (Report No. DOT HS 811 658). Washington, DC: National Highway Traffic Safety Administration.

³ Schroeder, P., Kostyniuk, L., & Mack, M. (2013, December). 2011 National Survey of Speeding Attitudes and Behaviors. (Report No. DOT HS 811 865). Washington, DC: National Highway Traffic Safety Administration.

In order to design countermeasures that address directly the factors that influence speeding behavior and intention to engage in this behavior, it is necessary to understand as much as possible about the internal reasoning of drivers who speed. Insight into factors such as judgments about whether speeding is morally right or wrong and perceptions of the legitimacy of the speed laws, enforcement, and sanctions can help to develop tailored and effective interventions. This study will examine these factors by conducting a survey of speeders and non-speeders. NHTSA will use the findings to assist States, localities, and communities in developing and refining countermeasures that will aid in their efforts to reduce speeding behavior and speeding-related crashes and injuries.

NHTSA will disseminate the information from this study in a technical report. The technical report will provide aggregate (summary) statistics and tables as well as the results of statistical analysis of the information, but it will not include any personally identifiable information (PII). The technical report will be shared with State highway offices, local governments, and those who develop traffic safety communications that aim to reduce speeding behavior and speeding-related crashes.

60-Day Notice: A Federal Register notice with a 60-day comment period soliciting public comments on the described information collection was published on October 25, 2022 (87 FR 64536). One organization, the Texas Department of Transportation (TxDOT), and two individuals provided comments. The individual comments were descriptions regarding the personal motivations of the writers for speeding and their own perceived risk on roadways. TxDOT expressed support for the project and recommended that the scope be expanded to include additional States, including Texas. TxDOT also inquired what roadway types will be the focus of the study.

In response to TxDOT's recommendation to include multiple States, at present the study is delimited to a single State to yield uniformity in traffic laws. If it should become of interest to expand the scope to multiple States, the willingness of Texas to participate will be considered. In response to the specific roadway types of interest to the study, the study is designed to cover essentially the full range of driving situations so all roadway types are included.

Affected Public: Participants are eligible for the survey if they are (1) licensed drivers in the State of Washington at the time the sample is drawn; (2) age 18 and older; (3) randomly selected from the total drivers in Washington State in three groups based on the number of speeding convictions on their driver record (0; 1; and 2+).

Estimated Number of Respondents: Participation in this study will be voluntary. The study anticipates contacting up to 4,545 adult licensed drivers from Washington State to obtain a target sample of 1,500 completed surveys.

Frequency: The study will be conducted one time during the three-year period for which NHTSA is requesting approval.

Estimated Total Annual Burden Hours: NHTSA estimates the approximate time to complete the survey is 20 minutes per participant. Details of the burden hours for each wave in the survey are included in Table 1 below. When rounded up to the nearest whole hour for each data collection effort, the total estimated annual burden from the project activities for 1,500 participants is 501 hours.

BILLING CODE 4910-59-P

Estimated Total Annual Burden Cost: Participation in this study is voluntary, and there are no costs to respondents beyond the time spent completing the questionnaires.

Public Comments Invited: You are asked to comment on any aspects of this information collection, including (a) whether the proposed collection of information is necessary for the proper performance of the functions of the agency, including whether the information will have practical utility; (b) the accuracy of the agency's estimate of the burden of the proposed collection of information, including the validity of the methodology and assumptions used; (c) ways to enhance the quality, utility and clarity of the information to be collected; and (d) ways to minimize the burden of the collection of information on respondents, including the use of appropriate automated, electronic, mechanical, or other technological collection techniques or other forms of information technology, e.g., permitting electronic submission of responses.

Authority: The Paperwork Reduction Act of 1995; 44 U.S.C. chapter 35, as amended; 49 CFR 1.49; and DOT Order 1351.29A.

Nanda Narayanan Srinivasan,
Associate Administrator, Research and Program Development.

[FR Doc. 2023-04037 Filed 2-27-23; 8:45 am]

BILLING CODE 4910-59-C